DEPARTMENT OF ENERGY

Federal Energy Regulatory Commission

Sunshine Act Meeting Notice

The following notice of meeting is published pursuant to section 3(a) of the government in the Sunshine Act (Pub. L. No. 94-409), 5 U.S.C. 552b:

AGENCY HOLDING MEETING: Federal Energy Regulatory Commission.

DATE AND TIME: February 17, 2011, 10 a.m.

PLACE: Room 2C, 888 First Street, NE., Washington, DC 20426.

STATUS: OPEN.

MATTERS TO BE CONSIDERED: Agenda.

Note: Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

967TH—Meeting

Regular Meeting
February 17, 2011, 10 a.m.
Item No. | Docket No. | Company
Administrative
A-1 | AD02-1-000 | Agency Business Matters.
A-2 | AD02-7-000 | Customer Matters, Reliability, Security and Market Operations.
Electric
E-1 | ER03-563-066 | Devon Power LLC.
E-2 | EL10-71-000 | Puget Sound Energy, Inc.
E-3 | RM11-9-000 | Locational Exchanges of Wholesale Electric Power.
E-4 | RM11-7-000 AD10-11-000 | Frequency Regulation Compensation in the Organized Wholesale Power Markets.
E-5 | RM10-17-000 | Demand Response Compensation in Organized Wholesale Energy Markets.
E-6 | RM10-13-001 | Credit Reforms in Organized Wholesale Electric Markets.
E-7 | RM08-13-001 | Transmission Relay Loadability Reliability Standard.
E-8 | RM08-19-004 | Mandatory Reliability Standards for the Calculation of Available Transfer Capability, Capacity Benefit Margins, Transmission Reliability Margins, Total Transfer Capability, and Existing Transmission Commitments and Mandatory Reliability Standards for the Bulk-Power System.
E-9 | ER11-2411-000 | Southern California Edison Company.
| ER11-2572-000 | California Independent System Operator Corporation.
E-10 | ER11-2455-000 | Southern California Edison Company.
| ER11-2451-000 | California Independent System Operator Corporation.
E-11 | ER05-1056-005 | Chehalis Power Generating, L.P.
E-12 | ER10-2869-000 | Midwest Independent Transmission System Operator, Inc.
E-13 | ER11-2427-000 | ISO New England, Inc.
E-14 | EL10-62-000 | Alta Wind I, LLC, Alta Wind II, LLC, Alta Wind III, LLC, Alta Wind IV, LLC, Alta Wind V, LLC, Alta Wind VI, LLC, Alta Wind VII, LLC, Alta Wind VIII, LLC, Alta Windpower Development, LLC, TGP Development Company, LLC.
Gas
G-1 | RP08-306-000 | Portland Natural Gas Transmission System.
G-2 | IS08-390-002 | SFPP, L.P.
Hydro
H-1 | RM11-6-000 | Annual Charges for Use of Government Lands.
H-2 | P-2210-209 | Appalachian Power Company.
H-3 | P-2210-206 | Appalachian Power Company.
H-4 | P-12532-003 | Pine Creek Mine, LLC.
| P-13317-001 | Bishop Paiute Tribe.
| P-13689-001 | KC LLC.
Certificates
C-1 | CP10-485-000 | Tennessee Gas Pipeline Company.

Dated: February 10, 2011.
Kimberly D. Bose,
Secretary.

A free Webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2011-3459 Filed 2-11-11; 11:15 am]

BILLING CODE 6717-01-P